DEPARTMENT OF AGRICULTURE

Forest Service

Information Collection; Disposal of Mineral Materials

AGENCY: Forest Service, Agriculture (USDA).

ACTION: Notice; request for comment.

SUMMARY: In accordance with the Paperwork Reduction Act of 1995, the United States Department of Agriculture (USDA), Forest Service is seeking comments from all interested individuals and organizations on the revision of a currently approved information collection Disposal of Mineral Materials.

DATES: Comments must be received in writing on or before December 5, 2022 to be assured of consideration. Comments received after that date will be considered to the extent practicable.

ADDRESSES: Comments concerning this notice and public inspection of the comments should be addressed to the person under FOR FURTHER INFORMATION CONTACT. Comments also may be submitted via facsimile to 303-275-5122 or phone: 720-618-9961.

FOR FURTHER INFORMATION CONTACT: A copy of this information collection, with applicable supporting documentation, may be obtained by contacting Bruce Schumacher, Paleontology Program Coordinator, USDA, Forest Service, 1617 Cole Boulevard, Building 17, Lakewood, CO 80401 or phone: 720-618-9961 or email: bruce.schumacher@usda.gov.

Individuals who use telecommunication devices for the deaf (TDD) may call the Federal Relay Service (FRS) at 1-800-877-8339 twenty-four hours a day, every day of the year, including holidays.

SUPPLEMENTARY INFORMATION:

Title of Collection: Disposal of Minerals Materials.

OMB Control Number: 0956-0081.

Type of Review: Revisions of a currently approved information collection.

Expiration Date of Approval: December 31, 2024.

Abstract: The Secretary of Agriculture has the statutory authority per 16 U.S.C. 470aaa-3 (section 6304), and as detailed in 36 CFR 291, to allow permitted research and collection of paleontological resources. This authority stipulates the Secretary may issue a permit pursuant to an application, which requires that (1) the applicant is qualified to carry out the permitted activity; (2) the permitted activity is undertaken for the purpose of furthering paleontological knowledge or for public education; (3) the permitted activity is consistent with any management plan applicable to the Federal land concerned; and (4) the proposed methods of collecting will not threaten significant natural resources. Permit applications also require terms and conditions as the Secretary deems necessary to carry out the purposes of the subtitle, including requirements that (1) the paleontological resource that is collected from Federal land under the permit will remain the property of the United States; (2) the paleontological resource and copies of associated records will be preserved for the public in an approved repository, to be made available for scientific research and public education; and (3) specific locality data will not be released by the permittee or repository without the written permission of the Secretary.

Specific Forest Service regulations detailing permitting and the need for information collection are at 36 CFR 291.13-291.23.

This information is used to ensure permit applicants are (1) qualified to undertake the proposed research and collection activities, (2) to ensure that an approved non-federal repository is willing (signed agreement) to accept all paleontological resources (federal property) collected under the proposed activity, and (3) to allow Forest Service staff to undertake environmental review of the proposed activity.

Permit reporting information is used to contribute toward the Forest Service national database documenting paleontological localities on National Forest System lands, and to provide accountability for federal property held in trust by non-federal partner repositories.

Information collected includes details of the proposed research collection activity including contact information for the permit applicant, and a signed repository agreement arranged by the permit applicant with a non-federal approved repository to accept Federal property in perpetuity at no cost to government. Following completion of permitted activities, permit holders are required to submit a final report to the Forest Service as detailed in 36 CFR 291.17, and in accordance with standard scientific best management practice. The process requires no financial information.

This information collection does not impact small businesses or other small entities. There is no fee associated with review of FS-2800-22A applications, nor issuance of FS-2800-22B permits.

If the information was not collected, the Forest Service would not be able to authorize research and collection of paleontological resources, and therefore would not be in compliance with U.S.C. 470aaa-1 (Sec. 6302. Management.) which states that “The Secretary shall manage and protect paleontological resources on Federal land using scientific principles and expertise”.

Title of Collection: FS-2800-22A application.

Estimate of Annual Burden: 165 hours.

Type of Respondents: Applicants.

Estimated Annual Number of Respondents: 30.

Estimated Annual Number of Responses per Respondent: 1.

Estimated Total Annual Burden on Respondents: 5.5 hours.

Title of Collection: FS-2800-22B oversite and report review.

Estimate of Annual Burden: 6.25 hours.

Type of Respondents: Permit Holders.

Estimated Annual Number of Respondents: 25.

Estimated Annual Number of Responses per Respondent: 1.

Estimated Total Annual Burden on Respondents: 0.25 hours.

Title of Collection: FS-2800-22C locality form review and database entry.

Estimate of Annual Burden: 162.5 hours.

Type of Respondents: Permit Holders, Repositories.

Estimated Annual Number of Respondents: 25.

Estimated Annual Number of Responses per Respondent: 1.

Estimated Total Annual Burden on Respondents: 6.5 hours.

Title of Collection: Burden Hours for FS-2800-22D specimen.

Estimate of Annual Burden: 162.5 hours.

Type of Respondents: Permit Holders, Repositories.

Estimated Annual Number of Respondents: 25.

Estimated Annual Number of Responses per Respondent: 1.

Estimated Total Annual Burden on Respondents: 6.5 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 29, 2022.
Deborah Hollen,
Acting Associate Deputy Chief, National Forest System.

[FR Doc. 2022-21570 Filed 10-4-22; 8:45 am]

BILLING CODE 3411-15-P